DEPARTMENT OF AGRICULTURE

Food and Nutrition Service

Agency Information Collection Activities: Proposed Collection; Comment Request—Special Supplemental Nutrition Program for Women, Infants and Children (WIC) Forms: FNS-698, FNS-699, and FNS-700; The Integrity Profile (TIP)

AGENCY: Food and Nutrition Service (FNS), USDA.

ACTION: Notice.

SUMMARY: In accordance with the Paperwork Reduction Act of 1995, this notice invites the general public and other public agencies to comment on this proposed information collection.

Each year the Food and Nutrition Service (FNS) prepares an analysis, The Integrity Profile (TIP) Report, of WIC State agency efforts to detect potential fraud, waste and abuse committed by their authorized food vendors and the actions taken to remove vendors who commit program violations. The analysis presents data reported by 90 WIC State agencies, which includes 50 geographic State agencies, 34 Indian Tribal Organization State agencies, the District of Columbia, Puerto Rico, Guam, American Samoa, the Commonwealth of Northern Marianas, and the Virgin Islands. State agencies use a Web-based system to report this information. The reporting burden is comprised of three automated forms, the FNS-698, FNS-699, and FNS-700. The FNS-698 and FNS-699 are used to report State agency summary data, whereas the FNS-700 is used to capture information on each authorized vendor. The number of vendors authorized by each State agency varies from State to State.

DATES: Written comments must be received on or before November 25, 2008.

ADDRESSES: Comments are invited on: (a) Whether the proposed collection of information is necessary for the proper performance of the functions of the agency, including whether the information shall have practical utility; (b) the accuracy of the agency's estimate of the burden of the proposed collection of information, including the validity of the methodology and assumptions that were used; (c) ways to enhance the quality, utility, and clarity of the information to be collected; and (d) ways to minimize the burden of the collection of information on those who are to respond, including use of appropriate automated, electronic, mechanical, or other technological collection techniques or other forms of information technology.

FNS invites interested persons to submit comments on this notice. Comments may be submitted by any of the following methods:

• Mail: Send comments to Patricia Daniels, Director, Supplemental Food Programs Division, Food and Nutrition Service, U.S. Department of Agriculture, 3101 Park Center Drive, Room 520, Alexandria, VA 22302.

• Facsimile: Comments may also be submitted via fax to the attention of Patricia Daniels at (703) 305-2196.

• E-mail: Send comments to WICHQ-SFPD@fns.usda.gov. Include title in the subject line of the message.

All written comments will be open for public inspection at the Food and Nutrition Service headquarters office during regular business hours (8:30 a.m. to 5 p.m. Monday through Friday) at 3101 Park Center Drive, Room 520, Alexandria, Virginia 22302.

All responses to this notice will be summarized and included in the request for Office of Management and Budget approval. All comments will be a matter of public record.

FOR FURTHER INFORMATION CONTACT: Requests for additional information or copies of this information collection should be directed to Patricia N. Daniels at (703) 305-2746.

SUPPLEMENTARY INFORMATION: Title: The Integrity Profile (TIP).

OMB Number: 0584-0401.

Form Number: FNS-698, FNS-699, and FNS-700.

Expiration Date: January 31, 2009.

Type of Request: Extension of a currently approved collection.

Abstract: State agencies administering the Special Supplemental Nutrition Program for Women, Infants and Children (WIC) are required by 7 CFR 246.12(j)(5) to submit to FNS an annual summary of the results of their vendor monitoring efforts in order to provide Congress, senior FNS officials, as well as the general public, assurance that every reasonable effort is being made to ensure integrity in the WIC Program. Since 1989, WIC State agencies have been required to submit such data annually. In the last recordkeeping submission for TIP, 89 WIC State agencies administered the program. Currently, 90 WIC State agencies administer the program. An adjustment has been made to the burden hours due to: (1) An increase of the number of WIC State agencies reporting, (2) a reduction in the number of vendor records, and (3) a change in the methodology used to calculate burden. The change in burden hours from 4,144 to 3,672 results in a net reduction of 472 burden hours.

Affected Public: WIC State agencies.

Estimated Number of Respondents: 90.

Estimated Number of Responses per Respondent: One.

Estimated Total Annual Responses: 90.

Estimated Total Annual Burden on Respondents: 3,672 hours.

Dated: September 16, 2008.
Roberto Salazar,
Administrator, Food and Nutrition Service.

[FR Doc. E8-22694 Filed 9-25-08; 8:45 am]

BILLING CODE 3410-30-P